DEPARTMENT OF TRANSPORTATION

Office of the Secretary

Notice of Applications for Certificates of Public Convenience and Necessity and Foreign Air Carrier Permits Filed Under Subpart B (Formerly Subpart Q) Filed With the Department Between October 6, and 24, 2003

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Applications filed during week ending: October 10, 2003.

Docket Number: OST-2003-16284.

Date Filed: October 6, 2003.

Due Date for Answers, Conforming Applications, or Motion to Modify Scope: October 27, 2003.

Description: Application of Bobrel Leasing, Inc., pursuant to 49 U.S.C. Section 41738 and Subpart B, requesting authority to operate scheduled passenger service as a commuter air carrier and proposes to operate service between Lamar, CO and Denver International Airport, with twice daily service Monday through Friday, and once daily service on Saturday and Sunday.

Applications filed during week ending: October 24, 2003.

Docket Number: OST-1997-2516.

Date Filed: October 21, 2003.

Due Date for Answers, Conforming Applications, or Motion to Modify Scope: November 12, 2003.

Description: Application of Continental Airlines, Inc., pursuant to 49 U.S.C. Section 41102 and Subpart B, requesting renewal of its Route 381 certificate authorizing Continental to provide scheduled foreign air transportation of persons, property, and mail between the coterminal points New Orleans, LA; and Houston and Dallas/Ft. Worth, TX; and the coterminal points Maracaibo and Caracas, Venezuela and between Newark, NJ and Caracas, Venezuela, and to combine this authority with its other certificate and exemption authority.

Andrea M. Jenkins,
Program Manager, Docket Operations, Federal Register Liaison.

[FR Doc. 03-27654 Filed 11-3-03; 8:45 am]

BILLING CODE 4910-62-P